DEPARTMENT OF ENERGY

Federal Energy Regulatory Commission

[Project No. 10661-051]

Indiana Michigan Power Company; Notice of Waiver Period for Water Quality Certification Application

On November 30, 2022, Indiana Michigan Power Company submitted to the Federal Energy Regulatory Commission (Commission) a copy of its application for a Clean Water Act section 401(a)(1) water quality certification filed with the Michigan Department of Environment, Great Lakes, and Energy (Michigan EGLE), in conjunction with the above captioned project. Pursuant to 40 CFR 121.6 and section 5.23(b) of the Commission's regulations,¹ we hereby notify Michigan EGLE of the following:

¹ 18 CFR 5.23(b) (2022).

Date of Receipt of the Certification Request: November 30, 2022.

Reasonable Period of Time to Act on the Certification Request: One year (November 30, 2023).

If Michigan EGLE fails or refuses to act on the water quality certification request on or before the above date, then the agency certifying authority is deemed waived pursuant to section 401(a)(1) of the Clean Water Act, 33 U.S.C. 1341(a)(1).

Dated: February 1, 2023.
Kimberly D. Bose,
Secretary.

[FR Doc. 2023-02558 Filed 2-6-23; 8:45 am]

BILLING CODE 6717-01-P